DEPARTMENT OF EDUCATION

Office of Postsecondary Education; Overview Information; Developing Hispanic-Serving Institutions (HSI) Program; Notice Inviting Applications for New Awards for Fiscal Year (FY) 2006

Corrections

In notice document E6-829 beginning on page 3830 in the issue of Tuesday, January 24, 2006, make the following corrections:

1. On page 3830, in the first column, under the heading DATES, in the third paragraph, under Deadline for Intergovernmental Review: “March 27, 2006” should read “ May 9, 2006”.

2. On page 3832, in the first column, in the fourth paragraph, under Deadline for Intergovernmental Review: “March 27, 2006” should read “May 9, 2006”.

[FR Doc. Z6-829 Filed 1-26-06; 8:45 am]

BILLING CODE 1505-01-D

ENVIRONMENTAL PROTECTION AGENCY

40 CFR Parts 9, 141, and 142

[EPA-HQ-OW-2002-0043; FRL-8012-1]

RIN 2040-AD38

National Primary Drinking Water Regulations: Stage 2 Disinfectants and Disinfection Byproducts Rule

Correction

In rule document 06-3 beginning on page 388 in the issue of Wednesday, January 4, 2006, make the following corrections:

1. On page 424, in the third column, in the last paragraph, in the second line, “complete” should read “completing”.

2. On the same page, in the same column, in the same paragraph, in the 12th line, “complete” should read “completing”.

3. On page 426, the table is corrected to read as set forth below:

Table IV.G-1.—IDSE Monitoring Frequencies and Locations
Source water type | Population size category | Monitoring periods and frequency of sampling | Distribution system monitoring locations ¹: Total per monitoring period | Distribution system monitoring locations ¹: Near entry points | Distribution system monitoring locations ¹: Average residence time | Distribution system monitoring locations ¹: High TTHM locations | Distribution system monitoring locations ¹: High HAA5 locations
Subpart H
| <500 consecutive systems | one (during peak historical month) ² | 2 | 1 |  | 1
| <500 non-consecutive systems |  | 2 |  |  | 1 | 1
| 500-3,300 non-consecutive systems | four (every 90 days) | 2 | 1 |  | 1 |
| 500-3,300 consecutive systems |  | 2 |  |  | 1 | 1
| 3,301-9,999 |  | 4 |  | 1 | 2 | 1
| 10,000-49,999 | six (every 60 days) | 8 | 1 | 2 | 3 | 2
| 50,000-249,999 |  | 16 | 3 | 4 | 5 | 4
| 250,000-999,999 |  | 24 | 4 | 6 | 8 | 6
| 1,000,000-4,999,999 |  | 32 | 6 | 8 | 10 | 8
| ≥5,000,000 |  | 40 | 8 | 10 | 12 | 10
Ground Water |  | <500 consecutive systems | one (during peak historical month) ² | 2 | 1 |  | 1 |
| <500 non-consecutive systems |  | 2 |  |  | 1 | 1
| 500-9,999 | four (every 90 days) | 2 |  |  | 1 | 1
| 10,000-99,999 |  | 6 | 1 | 1 | 2 | 2
| 100,000-499,999 |  | 8 | 1 | 1 | 3 | 3
| ≥500,000 |  | 12 | 2 | 2 | 4 | 4
¹ A dual sample set (i.e., a TTHM and an HAA5 sample) must be taken at each monitoring location during each monitoring period.
² The peak historical month is the month with the highest TTHM or HAA5 levels or the warmest water temperature.

4. On page 433, in the second column, in the third full paragraph, in the sixth and seventh lines, “2×10/b 2×10⁻⁴, 10⁻⁴ and 10⁻⁶” should read “2×10⁻⁴”.

5. On pages 434 and 435, Table IV.K-1 is corrected to read as set forth below:

Table IV.K-1.—Technologies Considered and Predicted To Be Used in Compliance Forecast for Small Systems
SW Water Plants | GW Water Plants
• Switching to chloramines as a residual disinfectant | • Switching to chloramines as a residual disinfectant
• Chlorine dioxide (not for systems serving fewer than 100 people) | • UV
• UV | • Ozone (not for systems serving fewer than 100 people)
• Ozone (not for systems serving fewer than 100 people) | • GAC20
• Micro-filtration/Ultra-filtration | • Nanofiltration
• GAC20
• GAC20 + Advanced disinfectants
• Integrated Membranes
Note: Italicized technologies are those predicted to be used in the compliance forecast.
Source: Exhibits 5.11b and 5.14b, USEPA 2005a.

6. On page 435, in Table IV.K-2, in column H, in the second line, “9” should read “0”.

7. On page 464, in Table VI.K-1, in the “Notes:”, in the third line, “established exposure” should read “established between exposure”.

§ 9.1 [Corrected]

8. On page 477, in § 9.1, ÿ7Ein the third column, in the table National Primary Drinking Water Regulations Implementation, under “OMB control No.”, in the first line, “2040-0265” should read “2040-0205”.

§ 141.620 [Corrected]

9. On page 489, in § 141.620(c), ÿ7Ein the table, in the first column, in entry (4), “System serving > 10,000” should read “System serving < 10,000”.

[FR Doc. C6-3 Filed 1-26-06; 8:45 am]

BILLING CODE 1505-01-D